DEPARTMENT OF COMMERCE

International Trade Administration

[A-570-506]

Porcelain-On-Steel Cooking Ware: Recission of Antidumping Duty Administrative Review

AGENCY: Import Administration, International Trade Administration, Department of Commerce.

ACTION: Notice of rescission of antidumping duty administrative review: porcelain-on-steel cooking ware from the People's Republic of China.

SUMMARY: On January 31, 2001, the Department of Commerce published in the Federal Register a notice announcing the initiation of an administrative review of the antidumping duty order on porcelain-on-steel (“POS”) cooking ware from the People's Republic of China for one producer of POS cooking ware from the People's Republic of China, Clover Enamelware Enterprises Ltd. (“Clover”), and its affiliated reseller, Lucky Enamelware Factory, Ltd. (“Lucky”) covering the period December 1, 1999 through November 30, 2000. The Department of Commerce received a request for withdrawal of this review from Clover, Lucky and CGS, a U.S. importer of POS cooking ware, who collectively requested the review. In accordance with 19 CFR 351.213(d)(1), the Department of Commerce is now rescinding this review because the producer, its affiliated reseller, and a U.S. importer of scope merchandise have timely withdrawn their request for review and no other interested parties have requested a review.

EFFECTIVE DATE: March 28, 2001.

FOR FURTHER INFORMATION CONTACT: James Terpstra or Geoffrey Craig, Office of AD/CVD Enforcement VI, Group II, Import Administration, U.S. Department of Commerce, Room 4012, 14th Street and Constitution Avenue, NW., Washington, DC 20230; telephone (202) 482-3965, or (202) 482-4161, respectively.

SUPPLEMENTARY INFORMATION:

Applicable Statute and Regulations

Unless otherwise indicated, all citations to the Tariff Act of 1930, as amended, (“the Act”) are to the provisions effective January 1, 1995, the effective date of the amendments made to the Act by the Uruguay Round Agreements Act (“URAA”). In addition, unless otherwise indicated, all citations to the Department of Commerce's (“the Department's”) regulations are to 19 CFR Part 351 (2000).

Background

On December 20, 2000, we published in the Federal Register the “Notice of opportunity to request an administrative review” of this order for the period December 1, 1999 through November 30, 2000 (65 FR 79802). On December 8, 2000, Clover, Lucky, and CGS, an importer of POS cooking ware manufactured by Clover and sold by Lucky, requested that the Department conduct an administrative review of the antidumping duty order on POS cooking ware from the People's Republic of China produced by Clover and sold by Lucky.

On January 31, 2001, the Department initiated an administrative review (66 FR 8378). On February 5, 2001, the Department sent a questionnaire to the counsel representing Clover and Lucky. On March 1, 2001, we received a letter on behalf of Clover and Lucky withdrawing their request for a review. On March 7, 2001, we received a letter from CGS also withdrawing its request for a review.

Section 19 CFR 351.213(d)(1) of the Department's regulations provides that the Secretary may permit a party that requests a review to withdraw the request within 90 days after the date of publication of the notice of initiation of the requested review. The Department of Commerce is now rescinding this review because the requesting parties have withdrawn their request for review within the 90 day time limit and no other interested parties have requested a review. This notice also serves as a reminder to parties subject to administrative protective order (“APO”) of their responsibility concerning the disposition of proprietary information disclosed under APO in accordance with 19 CFR 351.305(a)(3). Timely written notification of the return or destruction of APO materials or conversion to judicial protective order is hereby requested. Failure to comply with the regulations and the terms of an APO is a sanctionable violation.

We are issuing and publishing this notice in accordance with sections 751(a)(1) and 777(i)(1) of the Act.

Dated: March 20, 2001.
Holly A. Kuga,
Acting Deputy Assistant Secretary for Import Administration.

[FR Doc. 01-7654 Filed 3-27-01; 8:45 am]

BILLING CODE 3510-DS-P